DEPARTMENT OF ENERGY

Federal Energy Regulatory Commission

[Docket Nos. ER94-1384-031, ER99-2329-004, ER00-1803-003, ER01-457-003, ER02-1485-005, ER03-1108-005, ER03-1109-004, ER03-1315-003 and ER04-733-002 (not consolidated)]

Morgan Stanley Capital Group Inc., South Eastern Electric Development Corporation, South Eastern Generating Corporation, Naniwa Energy LLC, Power Contract Finance, L.L.C., Power Contract Financing II, L.L.C., Power Contract Financing II, Inc., MS Retail Development Corp. and Utility Contract Funding II, LLC; Notice of Amendment to Compliance Filing

June 7, 2005.

Take notice that, on June 6, 2005, Morgan Stanley Capital Group Inc. (MSCG), on behalf of itself and its affiliates South Eastern Electric Development Corporation, South Eastern Generating Corporation, Naniwa Energy LLC, Power Contract Finance, L.L.C., Power Contract Financing II, L.L.C., Power Contract Financing II, Inc., MS Retail Development Corp., and Utility Contract Funding II, LLC, submitted an amendment to its March 24, 2005 compliance filing in the above-captioned proceedings.

MSCG states that copies of the filing were served on parties on the official service lists in the above-captioned proceedings.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filing in the above proceeding is accessible in the Commission's eLibrary system. It is also available for review in the Commission's Public Reference Room in Washington, DC. There is an eSubscription link on the Web site that enables subscribers to receive e-mail notification when a document is added to a subscribed docket(s). For assistance with any FERC Online service, please email FERCOnlineSupport@ferc.gov or call (866) 208-3676 (toll free). For TTY, call (202) 502-8659.

Comment Date: 5 p.m. on June 13, 2005.

Linda Mitry,
Deputy Secretary.

[FR Doc. E5-3835 Filed 7-18-05; 8:45 am]

BILLING CODE 6717-01-P